DEPARTMENT OF COMMERCE

National Oceanic and Atmospheric Administration

[I.D. 062306B]

Review Workshop Report and Final Stock Assessment Report for Large Coastal Sharks

AGENCY: National Marine Fisheries Service (NMFS), National Oceanic and Atmospheric Administration (NOAA), Commerce.

ACTION: Notice of availability.

SUMMARY: NMFS announces the availability of the large coastal shark (LCS) final stock assessment report, prepared by the NMFS Southeast Fisheries Science Center (SEFSC). The report includes a copy of the recently completed review panel consensus summary, as well as copies of the Data and Assessment workshop reports. These reports summarize the relevant working documents; describe models and methods used to assess the status of the LCS complex, sandbar sharks, and Atlantic and Gulf of Mexico stocks of blacktip sharks; make general and research oriented recommendations; summarize stakeholder opinion for each of the stocks assessed; and make conclusions regarding the status of the stock.

ADDRESSES: Requests for copies of the LCS final stock assessment report should be sent to Sarah McTee, Highly Migratory Species Management Division (F/SF1), National Marine Fisheries Service (NMFS), 1315 East-West Highway, Silver Spring, MD 20910, or may be sent via facsimile (fax) to (301) 713-1917 or phone (301) 713-2347. Electronic copies of the stock assessment may also be obtained from the SEFSC SEDAR Web site at: http://www.sefsc.noaa.gov/sedar/Index.jsp.

FOR FURTHER INFORMATION CONTACT: For information on the methods, data, and results of the stock assessment, contact Julie Neer by phone at (850) 234-6541 or by fax at (850) 235-3559.

SUPPLEMENTARY INFORMATION: Stock assessments are periodically conducted to determine stock status relative to current management criteria. Collecting the best available scientific data and conducting stock assessments are critical to determine appropriate management measures for rebuilding stocks. The latest LCS stock assessment was conducted in a manner similar to the Southeast Data, Assessment, and Review (SEDAR) process. SEDAR is a cooperative process initiated in 2002 to improve the quality and reliability of fishery stock assessments in the South Atlantic, Gulf of Mexico, and U.S. Caribbean. SEDAR emphasizes constituent and stakeholder participation in assessment development, transparency in the assessment process, and a rigorous and independent scientific review of completed stock assessments.

SEDAR is organized around three workshops. The first workshop is a Data workshop where datasets are documented, analyzed, reviewed, and compiled for conducting assessment analyses. The LCS Data workshop was held from October 31 through November 4, 2005, in Panama City, FL. The second workshop, an Assessment workshop where quantitative population analyses are developed and refined and population parameters are estimated, was held from February 6 through February 10, 2006, in Miami, FL. The last workshop was the Review workshop, in which a panel of independent experts reviewed the data and assessments and recommended the most appropriate values of critical population and management quantities. This workshop was held in Panama City, FL, from June 5 through June 9, 2006. All workshops were open to the public. More information on the SEDAR process can be found at http://www.sefsc.noaa.gov/sedar.

Authority: 16 U.S.C. 971 et seq. and 1801 et seq.

Dated: July 17 2006.
Alan D. Risenhoover,
Acting Director, Office of Sustainable Fisheries, National Marine Fisheries Service.

[FR Doc. E6-11749 Filed 7-21-06; 8:45 am]

BILLING CODE 3510-22-S